DEPARTMENT OF AGRICULTURE

Submission for OMB Review; Comment Request

October 26, 2017.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 1, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Certified Mediation Program (7 CFR part 785).

OMB Control Number: 0560-0165.

Summary of Collection: The USDA Agricultural Medication Program (AMP) is mandated by Subtitle A and B of Title V of the Agricultural Credit Act of 1987 (Pub. L. 100-233), as amended. Under the program, USDA makes grants to state-designated entitles that provide mediation to agricultural producers, their lenders and others that are directly affected by the action of certain USDA agencies. In mediation, a trained impartial mediator helps participants review and discuss their conflicts, identify options to resolve disputes and agree on solutions. The Farm Service Agency (FSA) is administering the program.

Need and Use of the Information: FSA will collect information to determine whether the participants meet the eligibility requirements to be recipients of grant funds, and secondly, to determine if the grant is being administered as provided by the Act. Lack of adequate information to make these determinations could result in the improper administration and appropriation of Federal grant funds.

Description of Respondents: State, Local or Tribal Government.

Number of Respondents: 40.

Frequency of Responses: Reporting: Annually.

Total Burden Hours: 500.

Ruth Brown,
Departmental Information Collection Clearance Officer.

[FR Doc. 2017-23696 Filed 10-31-17; 8:45 am]

BILLING CODE 3410-05-P